DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Healthy Transitions Initiative Cross-Site Evaluation—NEW

The Substance Abuse and Mental Health Services Administration (SAMHSA), Center of Mental Health Services is responsible for the cross-site evaluation of the Cooperative Agreements for State/Community Partnerships to Integrate Services and Supports for Youth and Young Adults 16-25 with Serious Emotional Disturbances (SED) or Serious Mental Illness (SMI), and Their Families (Healthy Transitions Initiative—HTI) that will collect data on program implementation and youth and young adult outcomes in the areas of education, employment, housing, mental health and co-occurring disorders, and involvement with the juvenile and criminal justice systems. This cross-site evaluation design includes a process and an outcome evaluation and data will be collected over a 3-year period from 7 grantee sites.

The cross-site evaluation is designed to address the following questions.

Process Evaluation Questions

1. How closely does implementation match the plan proposed in the grant?

2. What types of deviation from the plan occur?

3. What effect do the deviations have on the planned intervention and performance assessment?

4. What facilitates a successful transition between youth and adult systems?

5. Is there a change from a “youth-guided” model to a “youth and young adult consumer-driven” model?

6. What is the extent of interagency coordination and collaboration?

7. How are state and local-level systems changing in response to the HTI implementation? How does state and local-level policy change affect the implementation of the Initiative?

8. Who provides services (i.e., program staff, agency site)?

9. What services are being provided (i.e., modality, type, intensity, duration)?

10. Is there a viable cultural and linguistic competence plan?

11. What are the individual characteristics of the youth and young adults (i.e., who is being served)?

12. In what settings (i.e., system, community) are they being served?

Outcome Evaluation Questions

1. What is the effect of the HTI intervention on the participants?

2. What is the effect of the HTI intervention, compared to a sample of similar young adults not participating in the HTI intervention?

3. What program factors are associated with the observed outcomes?

4. What individual factors are associated with the observed outcomes?

5. How durable are the effects over 24 months?

Process Evaluation

The process evaluation is designed to assess the fidelity of grantees to implement their proposed program model, and consists of young person focus groups, young person surveys, youth mentor focus groups, transitional program personnel interviews and surveys, and local and state administrator interviews. Process evaluation data will be collected in two waves during FY 2012 and during FY 2014 and, with the exception of the state administrator interviews, participants are not expected to participate more than one time during the 2 waves of data collection.

Outcome Evaluation

The outcome evaluation is designed to assess outcomes of youth and young adults in regards to education, employment, housing, mental health and co-occurring disorders, and involvement with the juvenile and criminal justice systems. The outcome evaluation will utilize both an enhanced and standard data collection and a longitudinal cohort design, and will include a comparative study to assess the effectiveness of HTI relative to a similar sample of young persons who did not receive HTI services. In the standard data collection protocol, outcome data will be collected for each HTI young adult participant, at a minimum of, at baseline at least every 6 months for up to 24 months for as long as the participant remains in HTI services. Enhanced outcome data will be collected on a subsample of young adults at 6 month intervals. The enhanced protocol will continue even after the young person from the subsample has left or has been discharged from HTI services, for up to 24 months. The baseline and follow up outcome instruments include the following key indicators: Demographic information, service use, education, employment/vocational training, housing and living situation, clinical outcomes, behavioral and other health, trauma-related experiences, life skills, parenting skills and supports, involvement with juvenile or criminal justice systems, and social and peer relationships. While participants are enrolled in HTI services, these data collected by the HTI grantees as specified in the RFA.

The HTI Data Center (HTI DC) will be developed for data collection and management. The HTI DC will be a secure Web site that allows uploading of data, real-time access to data by grantees, and production of automated reports for the sites. It is flexible for local use and simplifies the management, monitoring, and reporting of data.

The summary burden reflects the distinct number of respondents, total annual burden, and total hourly cost of the study.

Summary Burden Table
| Number of distinct respondents | Average annual number responses/ respondent | Total annual number of responses | Average 3-year burden per response (hours) | Total annual burden (hours) | Hourly wage cost | Total hourly cost *
Young Persons | 320 | 1.10 | 796 | 1.55 | 547 | ᵃ $7.25 | $3966
Youth Mentors | 84 | 0.33 | 28 | 1.25 | 35 | ᵇ 10.74 | 376
Transitional Program Personnel | 49 | 0.33 | 23 | 1.41 | 23 | ᶜ 15.24 | 351
Local Administrators | 21 | 0.67 | 14 | 1.50 | 21 | ᵈ 22.69 | 476
State Administrators | 7 | 0.67 | 9 | 0.54 | 3 | ᵉ 23.54 | 220
Total Summary | 481 | 3 | 871 |  | 629 |  | 5,389

Written comments and recommendations concerning the proposed information collection should be sent by August 8, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Cathy J. Friedman,
Public Health Analyst.

[FR Doc. 2012-16642 Filed 7-6-12; 8:45 am]

BILLING CODE 4162-20-P